DEPARTMENT OF COMMERCE

National Oceanic and Atmospheric Administration

RIN 0648-XI10

Endangered Species; File No. 10037

AGENCY: National Marine Fisheries Service (NMFS), National Oceanic and Atmospheric Administration (NOAA), Commerce.

ACTION: Issuance of permit.

SUMMARY: Notice is hereby given that Dr. Douglas Peterson, Warnell School of Forest Resources (Fisheries Division), University of Georgia, Athens, Georgia 30602, has been issued a permit to take shortnose sturgeon (Acipenser brevirostrum) for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)427-2521; and

Southeast Region, NMFS, 263 13th Ave South, St. Petersburg, FL 33701; phone (727)824-5312; fax (727)824-5309.

FOR FURTHER INFORMATION CONTACT: Malcolm Mohead or Kate Swails, (301)713-2289.

SUPPLEMENTARY INFORMATION: On September 11, 2007, notice was published in the Federal Register (72 FR 51803) that a request for a scientific research permit to take shortnose sturgeon had been submitted by the above-named individual. The requested permit has been issued under the authority of the Endangered Species Act of 1973, as amended (ESA; 16 U.S.C. 1531 et seq.) and the regulations governing the taking, importing, and exporting of endangered and threatened species (50 CFR parts 222-226).

Dr. Peterson is authorized to conduct research on shortnose sturgeon for five years to assess the abundance, age structure, distribution, movement, and critical habitat on the Ogeechee River, Georgia, and will also investigate the adverse effects of estrogenic compounds. Researchers may capture up to 150 shortnose sturgeon annually using gill and trammel nets and also anesthetize, measure, weigh, tissue and fin-ray sample, and PIT tag these fish. A subset of up to 10 sturgeon annually (no more than 40 during the permit life) will be laparoscoped and implanted with internal radio tags; a subset of up to 5 sturgeon annually (no more than 20 during the permit life) will be laparoscoped and fitted with external radio tags; and a subset of up to 12 sturgeon will be health evaluated using laparoscopy and venipuncture annually. The unintentional mortality of up to 2 shortnose sturgeon annually is permitted. Additionally researchers may also lethally collect up to 40 shortnose sturgeon eggs/larvae annually using buffer pads in order to document spawning.

Issuance of this permit, as required by the ESA, was based on a finding that such permit (1) was applied for in good faith, (2) will not operate to the disadvantage of such endangered or threatened species, and (3) is consistent with the purposes and policies set forth in section 2 of the ESA.

Dated: May 21, 2008.
P. Michael Payne,
Chief, Permits, Conservation and Education Division, Office of Protected Resources, National Marine Fisheries Service.

[FR Doc. E8-11884 Filed 5-27-08; 8:45 am]

BILLING CODE 3510-22-S